DEPARTMENT OF HEALTH AND HUMAN SERVICES

Centers for Medicare & Medicaid Services

[CMS-1814-N]

Medicare Program; Listening Session Regarding: Defining an Episode Logic for the Medicare Physician Resource Use Measurement Program; November 10, 2009

AGENCY: Centers for Medicare & Medicaid Services (CMS), HHS.

ACTION: Notice of meeting.

SUMMARY: This notice announces a listening session being conducted as part of the proposal to further the Medicare program's ability to assess the relative resources used for beneficiary care using episodes of care as the unit of measurement. This listening session will solicit comments on the range of issues in the analysis of the applicability of currently available tools to identify discrete episodes of care for Medicare beneficiaries. Physicians, physician associations, and all other interested parties are invited to participate. The meeting is open to the public, but attendance is limited to space and teleconference lines available.

DATES: Meeting Date: The listening session will be held on November 10, 2009 from 9 a.m. until 1 p.m. Eastern standard time (e.s.t.).

Meeting Registration and Request for Special Accommodations Deadline: Registration opens on September 25, 2009. For security reasons, registration must be completed no later than 5 p.m. e.s.t. on November 3, 2009. Requests for special accommodations must be received by 5 p.m. e.s.t. on November 3, 2009.

Deadline for Submission of Written Comments or Statements: Written comments or statements on the issues paper may be sent via mail, fax or electronically to the address specified in the ADDRESSES section of this notice and must be received by 5 p.m. e.s.t. on November 17, 2009.

ADDRESSES: Meeting Location: The listening session will be held in the main auditorium of the Central Building of the Centers for Medicare & Medicaid Services, 7500 Security Boulevard, Baltimore, MD 21244-1850.

Registration and Special Accommodations: Persons interested in attending the meeting or participating by teleconference must register by completing the online registration via the Web site at http://www2.eventsvc.com/stage/palmettogba/111009. Individuals who require special accommodations should send an e-mail request or via regular mail to as specified in the FOR FURTHER INFORMATION CONTACT of this notice.

Written Comments or Statements: Written comments or statements may be mailed to Mail stop C4-03-06, Centers for Medicare & Medicaid Services, 7500 Security Boulevard, Baltimore, MD 21244-1850; e-mail to PhysicianVBP@cms.hhs.gov,; or faxed to 410-786-8005.

FOR FURTHER INFORMATION CONTACT: Colleen Bruce, 410-786-5529. You may also send inquiries about this listening session via e-mail to colleen.bruce@cms.hhs.gov or via regular mail as specified in the ADDRESSES section of this notice.

I. Background

Section 131(c) of the Medicare Improvements for Patients and Providers Act of 2008 (MIPPA) establishes the Physician Resource Use Measurement Reporting Program that requires the Secretary to provide confidential feedback reports to physicians on resource use. Section 131 (d) of MIPPA requires the Secretary to develop a plan for the transition to a value-based purchasing program for physician and other professional services for which these measurements could also be used. We have established the Physician Resource Use Measurement and Reporting Program and provided reports to physicians in Phase I of the program using currently available methods for defining episodes and creating reports on relative resource use based on those episodes. Findings from these efforts and several years of research of the applicability of currently available grouper tools to Medicare beneficiaries and data suggest there may be some benefit to further refinement of our approach to defining episodes of care. We have established the program and provided reports (http://rurinfo.mathematica-mpr.com/) to physicians in several geographic areas. Several units of measurement have been utilized in an effort to determine the most useful unit of measurement. Comparing the relative resources used to deliver care for an episode of care is one of the methods used in the Medicare Physician Resource Use Measurement and Reporting Program. (For more detail information, see the Calendar Year (CY) 2009 Physician Fee Schedule final rule with comment period in the November 19, 2008 Federal Register (73 FR 69867).)

Currently, an episode of care is created through the use of a software program that identifies claims that are clinically related and then groups them into an episode. These episodes usually include costs of care for an individual beneficiary across settings of care. In addition to providing reports to individual practitioners under the Medicare Physician Resource use Measurement and Reporting Program, the Congress has given the Secretary authority to create reports for physician groups. In the CY 2010 Medicare Physician Fee Schedule proposed rule (July 13, 2009, (74 FR 33589)), we have proposed reporting to groups of physicians. Reporting to groups of physicians would allow these episodes to be used to compare costs for episodes across regions or systems of care, or across beneficiary populations.

We have solicited feedback from physicians and physician groups on the reports. Furthermore, we have been conducting research on the applicability of the commonly used grouper tools that create the episodes. Through these efforts we have identified potential areas for further refinement of our approach to defining episodes of care. We are specifically concerned that the tool be designed to address the unique attributes of the Medicare population, settings of care and payment system.

We have also determined that for all involved: physicians, other providers, beneficiaries, and policymakers, a tool that is used to determine what costs should be included in an episode of care needs to be in the public domain so it can be fully transparent.

At the listening session, CMS staff will present findings from research on the key attributes of a grouper logic for Medicare beneficiaries and seek input on other strategies for improving the manner in which episodes for Medicare beneficiaries are designed. Issues to be considered include the challenges associated with—

• Beneficiaries with multiple co-morbidities,

• Post-acute care diagnoses not matching with inpatient diagnoses,

• Whether physician services delivered in a hospital stay should be grouped to the same episode as the hospitalization, and

• Risk-adjustment.

We recognize that to use this type of grouper logic other significant issues, such as attribution and benchmarking methods will also need to be addressed, but we do not intend on discussing these at this session.

We intend on using the input from this session, the comments received in writing and our research findings to write a request for proposal for interested applicants to develop a logic and software that are specific to Medicare beneficiaries.

II. Listening Session Format

The listening session will be held on November 10, 2009 to consider the key issues related to drafting the request for proposal. The session will begin at 9 a.m. e.s.t. with an overview of the objectives for the session and a brief summary of the Medicare Physician Resource Use Measurement and Reporting Program. Beginning at approximately 9:30 a.m. e.s.t. the remainder of the meeting will be devoted to receiving public comments. The agenda will provide opportunities for brief 2-minute comments on each of the key issues from on-site session attendees. As time allows, telephone participants will also have the opportunity to provide brief 2-minute comments. The meeting will conclude by 1 p.m. e.s.t. with brief comments on next steps.

III. Registration Instructions

For security reasons, any persons wishing to attend this meeting must register by the date listed in the DATES section of this notice. Persons interested in attending the meeting or participating by teleconference must register by completing the on-line registration via the Web site at http://www2.eventsvc.com/stage/palmettogba/111009. The on-line registration system will generate a confirmation page to indicate the completion of your registration. Please print this page as your registration receipt.

Individuals may also participate in the listening session by teleconference. Registration is required as the number of call-in lines will be limited. The call-in number will be provided upon confirmation of registration.

An audio download of the listening session will be available through the CMS Resource Use Web site within 72 hours after completion of the listening session. Use Web site at http://www.cms.hhs.gov/center/physician.asp.

IV. Security, Building, and Parking Guidelines

This meeting will be held in a Federal government building; therefore, Federal security measures are applicable. In planning your arrival time, we recommend you to arrive to the central building by 8 a.m so that you will have enough time to check-in before the session begins. The on-site check-in for visitors will begin at 8:15 a.m. e.s.t.

Security measures will include inspection of vehicles, inside and out, at the entrance to the grounds. In addition, all persons entering the building must check in by name with Security, provide a government-issued ID, and pass through a metal detector. All items brought to the building, whether personal or for the purpose of demonstration or to support a presentation, including items such as laptops, cell phones, and palm pilots, are subject to physical inspection.

Authority: Section 131(d) The Medicare Improvements for Patients and Providers Act of 2008.

Dated: September 17, 2009.
Charlene Frizzera,
Acting Administrator, Centers for Medicare & Medicaid Services.

[FR Doc. E9-22959 Filed 9-24-09; 8:45 am]

BILLING CODE 4120-01-P